FEDERAL COMMUNICATIONS COMMISSION

[OMB 3060-0010 and 3060-0084]

Information Collections Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communication Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written comments should be submitted on or before October 26, 2016. If you anticipate that you will be submitting comments, but find it difficult to do so within the period of time allowed by this notice, you should advise the contacts below as soon as possible.

ADDRESSES: Direct all PRA comments to Nicholas A. Fraser, OMB, via email Nicholas_A._Fraser@omb.eop.gov; and to Cathy Williams, FCC, via email PRA@fcc.gov and to Cathy.Williams@fcc.gov. Include in the comments the OMB control number as shown in the Supplementary Information section below.

FOR FURTHER INFORMATION CONTACT: For additional information or copies of the information collection, contact Cathy Williams at (202) 418-2918. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION:

OMB Control Number: 3060-0010.

Title: Ownership Report for Commercial Broadcast Stations, FCC Form 2100, Schedule 323 (formerly FCC Form 323); Section 73.3615, Ownership Reports; Section 74.797, Biennial Ownership Reports.

Form Number: FCC Form 2100, Schedule 323 (formerly FCC Form 323).

Type of Review: Revision of a currently approved collection.

Respondents: Business or other for-profit entities; not-for-profit institutions; State, Local, or Tribal Governments.

Number of Respondents: 4,340 respondents; 4,340 responses.

Estimated Time per Response: 1.5 to 2.5 hours.

Frequency of Response: On occasion reporting requirement; biennial reporting requirement.

Obligation to Respond: Required to obtain or retain benefits. Statutory authority for these collections are contained in 47 U.S.C. 151, 152(a), 154(i), 257, 303(r), 307, 309, and 310.

Total Annual Burden: 9,620 hours.

Total Annual Cost: $10,093,220.

Privacy Impact Assessment: The Commission is drafting a Privacy Impact Assessment (PIA) for the personally identifiable information (PII) that is covered by the system of records notice (SORN), FCC/MB-1, Ownership Report for Commercial Broadcast Stations. Upon completion of the PIA, it will be posted on the FCC's Web site, as required by the Office of Management and Budget (OMB) Memorandum, M-03-22 (September 22, 2003).

Nature and Extent of Confidentiality: FCC Form 2100, Schedule 323 (formerly FCC Form 323) collects two types of information from respondents: PII in the form of names, addresses, job titles and demographic information; and FCC Registration Numbers (FRNs).

The FCC/MB-1 SORN, which was approved on December 21, 2009 (74 FR 59978), covers the collection, purpose(s), storage, safeguards, and disposal of the PII that individual respondents may submit on Form 2100, Schedule 323, as required under the Privacy Act of 1974, as amended (5 U.S.C. 552a). The Commission is drafting a privacy statement to inform applicants (respondents) of the Commission's need to obtain the information and the protections that the Commission has in place to protect the PII.

FRNs are assigned to applicants who complete FCC Form 160 (OMB Control No. 3060-0917). Form 160 currently requires applicants for FRNs to provide their Taxpayer Information Number (TIN) and/or Social Security Number (SSN). The FCC's electronic Commission Registration System (CORES) then provides each registrant with a CORES FRN, which identifies the registrant in his/her subsequent dealings with the FCC. This is done to protect the individual's privacy. The Commission maintains a SORN, FCC/OMD-9, Commission Registration System (CORES), to cover the collection, purpose(s), storage, safeguards, and disposal of the PII that individual respondents may submit on Form 160. Form 160 includes a privacy statement to inform applicants (respondents) of the Commission's need to obtain the information and the protections that the FCC has in place to protect the PII.

The Commission is revising Form 160 to enable applicants to obtain a Restricted Use FRN, which may be used on Form 2100, Schedule 323 to identify an individual reported as an attributable interest holder. The revised Form 160 will require applicants for Restricted Use FRNs to provide an alternative set of identifying information that does not include the individual's full SSN: His/her full name, residential address, date of birth, and only the last four digits of his/her SSN. Restricted Use FRNs may be used in lieu of CORES FRNs only on broadcast ownership reports and only for individuals (not entities) reported as attributable interest holders. The Commission is revising FCC/OMD-9 SORN to cover the collection, purpose(s), storage, safeguards, and disposal of the PII that individual respondents may submit on the revised Form 160.

Needs and Uses: On January 20, 2016, the Commission released a Report and Order, Second Report and Order, and Order on Reconsideration in MB Docket Nos. 07-294, 10-103, and MD Docket No. 10-234 (Second Report and Order). The Second Report and Order refines the collection of data reported on FCC Form 323, Ownership Report for Commercial Broadcast Stations, and FCC Form 323-E, Ownership Report for Noncommercial Broadcast Stations. Specifically, the Second Report and Order implements a Restricted Use FRN (RUFRN) within the Commission's Registration System (CORES) that individuals may use solely for the purpose of broadcast ownership report filings; eliminates the availability of the Special Use FRN (SUFRN) for broadcast station ownership reports, except in very limited circumstances; prescribes revisions to Form 323-E that conform the reporting requirements for noncommercial educational (NCE) broadcast stations more closely to those for commercial stations; and makes a number of significant changes to the Commission's reporting requirements that reduce the filing burdens on broadcasters, streamline the process, and improve data quality. These enhancements will enable the Commission to obtain data reflecting a more useful, accurate, and thorough assessment of minority and female broadcast station ownership in the United States while reducing certain filing burdens.

Licensees of commercial AM, FM, and full power television broadcast stations, as well as licensees of Class A and Low Power Television stations, must file FCC Form 2100, Schedule 323 (formerly FCC Form 323) every two years. Biennial Ownership Reports shall provide information accurate as of October 1 of the year in which the Report is filed. Form 2100, Schedule 323 shall be filed by December 1 in all odd-numbered years.

In addition, Licensees and Permittees of commercial AM, FM, and full power television stations must file Form 2100, Schedule 323 following the consummation of a transfer of control or an assignment of a commercial AM, FM, or full power television station license or construction permit; a Permittee of a new commercial AM, FM, or full power television station must file Form 2100, Schedule 323 within 30 days after the grant of the construction permit; and a Permittee of a new commercial AM, FM, or full power television broadcast station must file Form 2100, Schedule 323 to update the initial report or to certify the continuing accuracy and completeness of the previously filed report on the date that the Permittee applies for a license to cover the construction permit.

In the case of organizational structures that include holding companies or other forms of indirect ownership, a separate Form 2100, Schedule 323 must be filed for each entity in the organizational structure that has an attributable interest in the Licensee or Permittee.

OMB Control Number: 3060-0084.

Title: Ownership Report for Noncommercial Educational Broadcast Stations, FCC Form 2100, Schedule 323-E (formerly FCC Form 323-E); Section 73.3615, Ownership Reports.

Form Number: FCC Form 2100, Schedule 323-E (formerly FCC Form 323-E).

Type of Review: Revision of a currently approved collection.

Respondents: Not-for-profit institutions.

Number of Respondents: 2,636 respondents; 2,636 responses.

Estimated Time per Response: 1 to 1.5 hours.

Frequency of Response: On occasion reporting requirement; biennial reporting requirement.

Obligation to Respond: Required to obtain or retain benefits. Statutory authority for these collections are contained in 47 U.S.C. 151, 152(a), 154(i), 257, 303(r), 307, 308, 309, and 310.

Total Annual Burden: 3,867 hours.

Total Annual Cost: $2,319,900.

Privacy Impact Assessment: The Commission is drafting a Privacy Impact Assessment (PIA) for the personally identifiable information (PII) that is covered by the system of records notice (SORN), FCC/MB-1, Ownership Report for Commercial Broadcast Stations. The Commission is also revising the FCC/MB-1 SORN to cover the collection, purpose(s), storage, safeguards, and disposal of the PII that individual respondents may submit on FCC Form 2100, Schedule 323-E. The PIA will address the PII that is covered by the FCC/MB-1 SORN, as revised. Upon completion of the PIA, it will be posted on the FCC's Web site, as required by the Office of Management and Budget (OMB) Memorandum, M-03-22 (September 22, 2003).

Nature and Extent of Confidentiality: FCC Form 2100, Schedule 323-E (formerly FCC Form 323-E) collects two types of information from respondents: PII in the form of names, addresses, job titles and demographic information; and FCC Registration Numbers (FRNs).

The Commission is revising the FCC/MB-1 SORN to cover the collection, purpose(s), storage, safeguards, and disposal of the PII that individual respondents may submit on FCC Form 2100, Schedule 323-E, as required under the Privacy Act of 1974, as amended (5 U.S.C. 552a). The Commission is also drafting a privacy statement to inform applicants (respondents) of the Commission's need to obtain the information and the protections that the FCC has in place to protect the PII.

FRNs are assigned to applicants who complete FCC Form 160 (OMB Control No. 3060-0917). Form 160 currently requires applicants for FRNs to provide their Taxpayer Information Number (TIN) and/or Social Security Number (SSN). The FCC's electronic Commission Registration System (CORES) then provides each registrant with a CORES FRN, which identifies the registrant in his/her subsequent dealings with the FCC. This is done to protect the individual's privacy. The Commission maintains a SORN, FCC/OMD-9, Commission Registration System (CORES), to cover the collection, purpose(s), storage, safeguards, and disposal of the PII that individual respondents may submit on FCC Form 160. FCC Form 160 includes a privacy statement to inform applicants (respondents) of the Commission's need to obtain the information and the protections that the FCC has in place to protect the PII.

The Commission is revising Form 160 to enable applicants to obtain a Restricted Use FRN, which may be used on Form 2100, Schedule 323-E to identify an individual reported as an attributable interest holder. The revised Form 160 will require applicants for Restricted Use FRNs to provide an alternative set of identifying information that does not include the individual's full SSN: His/her full name, residential address, date of birth, and only the last four digits of his/her SSN. Restricted Use FRNs may be used in lieu of CORES FRNs only on broadcast ownership reports and only for individuals (not entities) reported as attributable interest holders. The Commission is revising the FCC/OMD-9 SORN to cover the collection, purpose(s), storage, safeguards, and disposal of the PII that individual respondents may submit on the revised Form 160.

Needs and Uses: On January 20, 2016, the Commission released a Report and Order, Second Report and Order, and Order on Reconsideration in MB Docket Nos. 07-294, 10-103, and MD Docket No. 10-234 (323/CORES Order and Reconsideration Order). The 323/CORES Order and Reconsideration Order refines the collection of data reported on FCC Form 323, Ownership Report for Commercial Broadcast Stations, and FCC Form 323-E, Ownership Report for Noncommercial Broadcast Stations. Specifically, the 323/CORES Order and Reconsideration Order implements a Restricted Use FRN (RUFRN) within the Commission's Registration System (CORES) that individuals may use solely for the purpose of broadcast ownership report filings. In light of the Commission's adoption of the RUFRN requirement, the 323/CORES Order and Reconsideration Order eliminates the availability of the Special Use FRN (SUFRN) for broadcast station ownership reports, except in very limited circumstances. The 323/CORES Order and Reconsideration Order also prescribes revisions to Form 323-E that conform the reporting requirements for noncommercial educational broadcast stations more closely to those for commercial stations, including information about the race, gender, and ethnicity of existing, reportable interest holders; the use of a unique identifier; and the biennial filing requirement. In addition, the 323/CORES Order and Reconsideration Order makes a number of significant changes to the Commission's reporting requirements that reduce the filing burdens on broadcasters, streamline the process, and improve data quality. These enhancements will enable the Commission to obtain data reflecting a more useful, accurate, and thorough assessment of minority and female broadcast station ownership in the United States while reducing certain filing burdens.

Licensees of noncommercial educational AM, FM, and television broadcast stations must file FCC Form 2100, Schedule 323-E (formerly FCC Form 323-E) every two years. Pursuant to the new filing procedures adopted in the 323/CORES Order and Reconsideration Order, Form 2100, Schedule 323-E shall be filed by December 1 in all odd-numbered years. Biennial Ownership Reports shall provide information accurate as of October 1 of the year in which the Report is filed.

In addition, Licensees and Permittees of noncommercial educational AM, FM, and television stations must file Form 2100, Schedule 323-E following the consummation of a transfer of control or an assignment of a noncommercial educational AM, FM, or television station license or construction permit; a Permittee of a new noncommercial educational AM, FM, or television station must file Form 2100, Schedule 323-E within 30 days after the grant of the construction permit; and a Permittee of a new noncommercial educational AM, FM, or television station must file Form 2100, Schedule 323-E to update the initial report or to certify the continuing accuracy and completeness of the previously filed report on the date that the Permittee applies for a license to cover the construction permit.

In the case of organizational structures that include holding companies or other forms of indirect ownership, a separate Form 2100, Schedule 323-E must be filed for each entity in the organizational structure that has an attributable interest in the Licensee or Permittee.

Federal Communications Commission.
Marlene H. Dortch,
Secretary, Office of the Secretary.

[FR Doc. 2016-23034 Filed 9-23-16; 8:45 am]

BILLING CODE 6712-01-P